DEPARTMENT OF DEFENSE

Department of the Army

[USA-2007-0001]

Privacy Act of 1974; System of Records

AGENCY: Department of the Army, DoD.

ACTION: Notice of New System of Records.

SUMMARY: The Department of the Army proposes to add a system of records notice in its inventory of records systems subject to the Privacy Act of 1974 (5 U.S.C. 552a), as amended.

DATES: This proposed action will be effective without further notice on February 8, 2007 unless comments are received which result in a contrary determination.

ADDRESSES: Send comments to Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on December 13, 2006 to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 3, 2007.
C.R. Choate,
Alternate Federal Register Liaison Officer, Department of Defense.

A0025-1 CIO G6

System name:

Army Knowledge Online (AKO) Information System Records

System location:

United States Army Program Executive Office, Enterprise Information Systems, 9350 Hall Road, Suite 141, Fort Belvoir, VA. 22060-5526.

Categories of individuals covered by the system:

Department of Defense military personnel (active component and reserve component), DoD civilian personnel, retired service members, and authorized guests (family members of DoD personnel, etc.) requiring or requesting access to AKO.

Categories of records in the system:

Name, Operator's/user's identification, Social Security Number, birth date; email address, organizational address, telephone and fax numbers; military rank/grade, military branch, military MOS, assigned password; and account types.

Authority for maintenance of the system:

10 U.S.C. 3013, Secretary of the Army; Department of Defense Directive 8500.1, Information Assurance (IA); DoD Instruction 8500.2, Information Assurance Implementation; AR 25-1, Army Knowledge Management and Information Technology; Army Regulation 25-2, Information Assurance; and E.O. 9397 (SSN).

Purpose(s):

To register users in order to facilitate electronic communications among DoD personnel and other authorized guest users. This system serves as an Army controlled repository for information needed by DoD personnel necessary for performance of duties and other DoD-related functions. Access is controlled based on individual needs for specific types of information. Statistical data, with all personal identifiers removed, may be used by management for system efficiency, workload calculation, or reporting purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and Practices for Storing, Retiring, Accessing, Retaining, and Disposing of Records:

Storage:

Records are stored on electronic storage media.

Retrievability:

Data is retrieved by individual's name.

Safeguards:

Computerized records maintained in a controlled area are accessible only to authorized personnel. Physical and electronic access is restricted to designated individuals having a need therefore in the performance of official duties. Buildings are equipped with alarms, cameras, and personnel on around the clock.

Retention and disposal:

Disposition pending (until the National Archives and Records Administration has approved retention and disposition of these records, treat as permanent).

System manager(s) and address:

Chief Information Officer, Department of the Army, 107 Army Pentagon, Washington, DC 20310-0107.

Notification procedures:

Individuals seeking to determine whether this system of records contains information about themselves should address written inquiries to the Chief Information Officer, Department of the Army, 107 Army Pentagon, Washington, DC 20310-0107.

For verification purposes, individual should provide full name, SSN, and signature.

Record access procedures:

Individuals seeking to access records about themselves contained in this system of records should address written inquiries to the Chief Information Officer, Department of the Army, 107 Army Pentagon, Washington, DC 20310-0107.

For verification purposes, individual should provide full name, SSN, and signature.

Contesting record procedures:

The Army's rules for accessing records and for contesting contents and appealing initial agency determinations are contained in Army Regulation 340-21; 32 CFR part 505 or may be obtained from the system manager.

Record Source Categories:

From the individual, and Defense Manpower Data Center's Defense Enrollment Eligibility Reporting System.

Exemptions claimed for the system:

None.

[FR Doc. E7-79 Filed 1-8-07; 8:45 am]

BILLING CODE 3710-08-P